DEPARTMENT OF HEALTH AND HUMAN SERVICES

Centers for Disease Control and Prevention

[30Day-24-24AL]

Agency Forms Undergoing Paperwork Reduction Act Review

In accordance with the Paperwork Reduction Act of 1995, the Centers for Disease Control and Prevention (CDC) has submitted the information collection request titled “Occupational Exposures to Surgical Smoke in Veterinary Personnel” to the Office of Management and Budget (OMB) for review and approval. CDC previously published a “Proposed Data Collection Submitted for Public Comment and Recommendations” notice on November 3, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Occupational Exposures to Surgical Smoke in Veterinary Personnel—New—National Institute for Occupational Safety and Health (NIOSH), Centers for Disease Control and Prevention (CDC).

Background and Brief Description

Surgical smoke produced during tissue cutting and cauterizing tissues and blood vessels generates hazardous gaseous compounds and aerosols that are associated with cancer and respiratory irritation; however, no research has characterized surgical smoke generated from animal tissue in clinical veterinary settings. Surgical smoke exposure is an emerging concern in human operating rooms, and several states have either passed or are considering bills requiring surgical smoke evacuation systems in human operating rooms to mitigate this occupational hazard. Surgical suites in veterinary clinics are often multiple bay suites or have less effective ventilation systems than human operating rooms, potentially leading to higher exposure levels, yet no research has examined barriers and aids to the use of surgical smoke evacuation systems among veterinary medicine/animal care (VM/AC) personnel.

The proposed project will characterize occupational exposure to surgical smoke and related respiratory health effects in clinical veterinary settings. Data will be used to examine: (1) work-related factors that contribute to exposure to surgical smoke in clinical veterinary settings; (2) relationships between surgical smoke exposure in clinical veterinary settings and respiratory health; and (3) barriers and aids to implementing surgical smoke extraction systems that reduce occupational exposures to surgical smoke. Findings from this study will help to provide guidance on engineering controls to improve air quality in VM/AC personnel's work environment by reducing exposure to surgical smoke.

Three veterinary teaching hospitals and a national network of community veterinary clinics have been recruited to participate in this research. VM/AC personnel at collaborating field study sites will have the opportunity to voluntarily express interest in participating by completing a brief expression of interest form. Study participants will complete: (1) a baseline questionnaire that collects data on demographics, work history, job tasks, exposures to respiratory hazards (including surgical smoke), use of personal protective equipment, workplace safety climate, and respiratory health and symptoms; and (2) a post-shift questionnaire assessing acute respiratory symptoms and job tasks during the work shift.

This is a new data collection, with approval requested for three years. CDC requests OMB approval for an estimated 107 annual burden hours. There are no costs to respondents other than their time to participate.

Estimated Annualized Burden Hours
Type of respondents | Form name | Number of respondents | Number of responses per respondent | Average burden per response (in hours)
VM/AC personnel | Expression of Interest Form | 50 | 1 | 3/60
VM/AC personnel | Informed Consent | 50 | 1 | 15/60
VM/AC personnel | Baseline Questionnaire | 50 | 1 | 28/60
VM/AC personnel | Post-shift Questionnaire | 50 | 10 | 8/60

Jeffrey M. Zirger,
Lead, Information Collection Review Office, Office of Public Health Ethics and Regulations, Office of Science, Centers for Disease Control and Prevention.

[FR Doc. 2024-22471 Filed 9-30-24; 8:45 am]

BILLING CODE 4163-18-P